DEPARTMENT OF COMMERCE

National Oceanic and Atmospheric Administration

RIN 0648-XA012

Plan for Periodic Review of Regulations

AGENCY: National Marine Fisheries Service (NMFS), National Oceanic and Atmospheric Administration (NOAA), Commerce.

ACTION: Notice; request for comments.

SUMMARY: The Regulatory Flexibility Act (RFA) requires that the National Marine Fisheries Service (NMFS) periodically review existing regulations that have a significant economic impact on a substantial number of small entities, such as small businesses, small organizations, and small governmental jurisdictions. This plan describes how NMFS will perform this review and describes the regulations that are being proposed for review during the current review-cycle.

DATES: Written comments must be received by NMFS by December 15, 2010.

ADDRESSES: You may submit comments on the plan for periodic review of regulations identified by 0648-XA012 by any of the following methods:

• Electronic submissions: E-mail Susan Carrillo or Michelle McGregor at 610review@noaa.gov.

• Mail: Susan Carrillo, National Marine Fisheries Service, NOAA, Office of Sustainable Fisheries, 1315 East-West Highway, Silver Spring, MD 20910 (mark outside of envelope “Comments on 610 review”).

FOR FURTHER INFORMATION CONTACT: Susan Carrillo, (301) 713-2341 for questions on rules under SUPPLEMENTARY INFORMATION section listed in items 1 through 22 or items 26 through 36, and contact Michelle McGregor, (301) 713-2319 for questions on rules under SUPPLEMENTARY INFORMATION section listed in items 14 and 22 through 25.

SUPPLEMENTARY INFORMATION:

Background

The RFA, 5 U.S.C. 601, requires that Federal agencies take into account how their regulations affect “small entities,” including small businesses, small Governmental jurisdictions and small organizations. For regulations proposed after January 1, 1981, the agency must either prepare a Regulatory Flexibility Analysis or certify that the regulation, if promulgated, will not have a significant economic impact on a substantial number of small entities. Section 602 requires that NMFS issue an Agenda of Regulations identifying rules the Agency is developing that are likely to have a significant economic impact on a substantial number of small entities.

Section 610 of the RFA requires Federal agencies to review existing regulations. It requires that NMFS publish a plan in the Federal Register explaining how it will review those of its existing regulations which have or will have a significant economic impact on a substantial number of small entities. Regulations in effect on January 1, 1981 were to be reviewed within ten years of that date. Regulations that become effective after January 1, 1981 must be reviewed within ten years of the publication date of the final rule. Section 610(c) requires that NMFS publish annually in the Federal Register a list of rules it will review during the succeeding 12 months. The list must describe the rule, explain the need for it, give the legal basis for it, and invite public comment.

Criteria for Review of Existing Regulations

The purpose of the review is to determine whether existing rules should be left unchanged, or whether they should be revised or rescinded in order to minimize significant economic impacts on a substantial number of small entities, consistent with the objectives of other applicable statutes. In deciding whether change is necessary, the RFA establishes several factors that NMFS will consider:

(1) Whether the rule is still needed;

(2) What type of complaints or comments were received concerning the rule from the public;

(3) The complexity of the rule;

(4) How much the rule overlaps, duplicates or conflicts with other Federal rules, and, to the extent feasible, with State and local governmental rules; and

(5) How long it has been since the rule has been evaluated or how much the technology, economic conditions, or other factors have changed in the area affected by the rule.

Plan for Periodic Review of Rules

NMFS will conduct reviews in such a way as to ensure that all rules for which a Final Regulatory Flexibility Analysis was prepared are reviewed within ten years of the year in which they were originally issued. This year, NMFS will review all such rules issued during 2001 and 2002.

The 2001-02 rules that NMFS will review by December 31, 2010 under the Section 610 requirement of the RFA are as follows:

1. Fisheries of the Exclusive Economic Zone (EEZ) Off Alaska; Amendments 61/61/13/8 to Implement Major Provisions of the American Fisheries Act (AFA) RIN 0648-AN55 (67 FR 79692, Dec. 30, 2002). NMFS issued final regulations to implement the following AFA-related amendments: Amendment 61 to the Fishery Management Plan (FMP) for the Groundfish Fishery of the Bering Sea and Aleutian Islands Area (BSAI), Amendment 61 to the FMP for Groundfish of the Gulf of Alaska (GOA), Amendment 13 to the FMP for BSAI King and Tanner Crab, and Amendment 8 to the FMP for the Scallop Fishery off Alaska. These four amendments incorporate the provisions of the AFA into the FMPs and their implementing regulations. The management measures include: Measures that allocate the BSAI pollock among the sectors of the pollock processing industry and restrict who may fish for and process pollock within each industry sector; measures that govern the formation and operation of fishery cooperatives in the BSAI pollock fishery; harvesting and processing limits known as sideboards to protect the participants in other fisheries from spillover effects resulting from the rationalization of the BSAI pollock fishery; and measures that establish catch weighing and monitoring requirements for vessels and processors that participate in the BSAI pollock fishery. These amendments and management measures were necessary to implement the AFA. This rule was issued under the authority of the Magnuson-Stevens Fishery Management and Conservation Act (Magnuson-Stevens Act), 16 U.S.C. 1801, and the AFA.

2. Fisheries of the Exclusive Economic Zone Off Alaska; Western Alaska Community Development Quota Program, RIN 0648-AL92 (67 FR 13291, Mar. 22, 2002). NMFS issued this final rule to change the Community Development Quota (CDQ) regulations for BSAI crab to allow the State of Alaska greater flexibility in establishing CDQ fishing seasons. This action was necessary to achieve the conservation and management goals for the BSAI crab CDQ program and was intended to further the objectives of the Magnuson-Stevens Act and the FMP for BSAI King and Tanner Crabs. This rule was issued under the authority of the Magnuson-Stevens Act.

3. Fisheries of the Northeastern United States; Atlantic Mackerel, Squid and Butterfish Fisheries; Framework Adjustment 2, RIN 0648-AP12 (67 FR 44392, July 2, 2002). NMFS issued this final rule to implement measures contained in Framework Adjustment 2 (Framework 2) to the Atlantic Mackerel, Squid, and Butterfish FMP. This action extended the limited entry program for the Illex squid fishery for an additional year; allowed for the roll-over of the annual specifications for these fisheries (with the exception of total allowable landings of foreign fishing) in the event annual specifications are not published prior to the start of the fishing year; and allowed Loligo squid specifications to be set for up to 3 years, subject to annual review. NMFS disapproved the proposed framework measures to modify the Loligo squid overfishing definition and control rule; and to allow Illex squid vessels an exemption from the Loligo squid trip limit during an August or September closure of the directed Loligo squid fishery. This action was necessary and was intended to further the objectives of the FMP and the Magnuson-Stevens Act. This rule was issued under the authority of the Magnuson-Stevens Act, 16 U.S.C. 1801.

4. Fisheries of the Caribbean, Gulf of Mexico, and South Atlantic; Coastal Migratory Pelagic Resources of the Gulf of Mexico and South Atlantic; Reef Fish Fishery of the Gulf of Mexico; Charter Vessel and Headboat Permit Moratorium, RIN 0648-AO62 (67 FR 43558, June 28, 2002). NMFS issued this final rule to implement Amendment 14 to the FMP for the Coastal Migratory Pelagic Resources of the Gulf of Mexico and South Atlantic and Amendment 20 to the FMP for the Reef Fish Resources of the Gulf of Mexico. The final rule established a 3-year moratorium on the issuance of charter vessel or headboat (for-hire) permits for the reef fish fishery and coastal migratory pelagics fishery in the exclusive economic zone of the Gulf of Mexico. Also, as a consequence of the moratorium, the current charter vessel/headboat permit for coastal migratory pelagic fish was restructured to provide separate permits for the Gulf of Mexico and South Atlantic. The intended effect of this final rule was to cap the number of for-hire vessels operating in these respective fisheries at the current level while the Gulf of Mexico Fishery Management Council evaluated the need for further management actions that may be needed to rebuild these fishery resources, and promote attainment of optimum yield. This rule was issued under the authority of the Magnuson-Stevens Act, 16 U.S.C. 1801.

5. Fisheries Off West Coast States and in the Western Pacific; Pelagic Fisheries; Prohibition on Fishing for Pelagic Management Unit Species; Nearshore Area Closures Around American Samoa by Vessels More Than 50 Feet in Length, RIN 0648-AL41 (67 FR 4369, Jan. 30, 2002). NMFS issued this final rule to prohibit certain vessels from fishing for Pacific pelagic management unit species within nearshore areas seaward of 3 nautical miles (nm) to approximately 50 nm around the islands of American Samoa. This prohibition was applied to vessels that measure more than 50 ft (15.2 m) in length overall and that did not land pelagic management unit species in American Samoa under a Federal longline general permit prior to November 13, 1997. This action was intended to prevent the potential for gear conflicts and catch competition between large fishing vessels and locally based small fishing vessels. Such conflicts and competition could lead to reduced opportunities for sustained participation by residents of American Samoa in the small-scale pelagic fishery. This rule was issued under the authority of the Magnuson-Stevens Act, 16 U.S.C. 1801.

6. Magnuson-Stevens Fishery Conservation and Management Act Provisions; Fisheries of the Northeastern United States; Northeast Multispecies Fishery, RIN 0648-AP78 (67 FR 50292, Aug. 1, 2002). In this interim final rule, NMFS implemented interim measures intended to reduce overfishing on species managed under the Northeast Multispecies FMP. Specifically, this interim final rule implemented additional restrictions specified in the Settlement Agreement Among Certain Parties (“Settlement Agreement”), which was ordered to be implemented by the U.S. District Court for the District of Columbia (Court) in a Remedial Order issued on May 23, 2002. The additional measures included the following: A freeze on days-at-sea at the highest annual level used from fishing years 1996-2000 (beginning May 1, 1996, through April 30, 2001) and a 20-percent cut from that level; a freeze on the issuance of new open access Hand-gear permits, and a decreased cod, haddock, and yellowtail flounder possession limit for that category; increased gear restrictions for certain gear types, including gillnets, hook-gear and trawl nets; restrictions on yellowtail flounder catch; and mandated observer coverage levels for all gear sectors in the Northeast multispecies fishery. This interim final rule also continued many of the measures contained in an earlier interim final rule that was published on April 29, 2002, for this fishery. This action was necessary to bring the regulations governing the fishery into compliance with the Settlement Agreement and the Court's Remedial Order. This rule was issued under the authority of the Magnuson-Stevens Act, 16 U.S.C. 1801.

7. Fisheries Off West Coast States and in the Western Pacific; Western Pacific Pelagic Fisheries; Pelagic Longline Gear Restrictions, Seasonal Area Closure, and Other Sea Turtle Take Mitigation Measures, RIN 0648-AN75 (67 FR 40232, June 12, 2002). NMFS issued a final rule under the FMP for the Pelagic Fisheries of the Western Pacific Region to implement the reasonable and prudent alternative of the March 29, 2001, Biological Opinion issued by NMFS under the Endangered Species Act (ESA). This rule was intended to reduce interactions between endangered and threatened sea turtles and pelagic fishing gear and to mitigate the harmful effects of interactions that occur. The rule applies to the owners and operators of all vessels fishing for pelagic species under Federal western Pacific limited access longline permits (longline vessels) within the U.S. EEZ and the high seas around Hawaii, as well as those fishing for pelagic species with other types of hook-and-line gear (non-longline pelagic vessels) within the EEZ around Hawaii, American Samoa, Guam, the Commonwealth of the Northern Mariana Islands, Midway, Johnston and Palmyra Atolls, Kingman Reef, and Wake, Jarvis, Baker, and Howland Islands (western Pacific region). This rule prohibits the targeting of swordfish north of the equator by longline vessels, closes all fishing to longline vessels during April and May in waters south of the Hawaiian Islands (from 15°N. lat. to the equator, and from 145°W. long. to 180° long.), prohibits the landing or possessing of more than 10 swordfish per fishing trip by longline vessels fishing north of the equator, allows the re-registration of vessels to Hawaii longline limited access permits only during the month of October, requires all longline vessel operators to annually attend a protected species workshop, and requires utilization of sea turtle handling and resuscitation measures on both longline vessels and non-longline pelagic vessels using hook-and-line gear. This rule was issued under the authority of the Magnuson-Stevens Act, 16 U.S.C. 1801.

8. Fisheries of the Northeastern United States; Atlantic Herring Fishery; 2002 Specifications, 0648-AP37 (67 FR 3442, Jan. 24, 2002). In addition to issuing final specifications for the 2002 Atlantic herring fishery, as required by the FMP for Atlantic Herring, this rule corrected and clarified the final rule implementing the FMP by clarifying the vessel owners' or operators' reporting requirements. This rule was issued under the authority of the Magnuson-Stevens Act, 16 U.S.C. 1801.

9. Fisheries Off West Coast States and in the Western Pacific; Pelagic Fisheries; Measures to Reduce the Incidental Catch of Seabirds in the Hawaii Pelagic Longline Fishery, 0648-AO35 (67 FR 34408, May 14, 2002). NMFS issued a final rule under the FMP for the Pelagic Fisheries of the Western Pacific Region that requires owners and operators of all vessels registered for use under a Hawaii longline limited access permit and operating with longline gear north of 23°N. lat. to employ a line-setting machine with weighted branch lines or use basket-style longline gear, and to use thawed blue-dyed bait and strategic offal discards during setting and hauling of longlines. The final rule also required that the owners and operators of these vessels follow certain seabird handling techniques and annually complete a protected species educational workshop conducted by NMFS. The final rule followed an emergency interim rule published on June 12, 2001, and was implemented to permanently codify the terms and conditions contained in a biological opinion issued on November 28, 2000, by the U.S. Fish and Wildlife Service and intended to afford protection to the endangered short-tailed albatross. The final rule also implemented management measures that were recommended by the Western Pacific Fishery Management Council and published in a proposed rule on July 5, 2000. These measures were designed to minimize interactions between seabirds and the Hawaii-based longline fishery. This rule was issued under the authority of the Magnuson-Stevens Act, 16 U.S.C. 1801.

10. Magnuson-Stevens Fishery Conservation and Management Act Provisions; Fisheries of the Northeastern United States; Atlantic Deep-Sea Red Crab Fishery; Atlantic Deep-Sea Red Crab Fishery Management Plan, RIN 0648-AP76 (67 FR 63222, Oct. 10, 2002). NMFS issued this final rule to implement approved measures contained in the Atlantic Deep-Sea Red Crab FMP. These regulations implemented the following measures: A limited access program for the directed fishery; a target total allowable catch level; a Days-at-Sea allocation effort control program; permitting and reporting requirements, including an Interactive Voice Response system for limited access vessels; trip limits and incidental harvest allowances; trap/pot limits; processing-at-sea restrictions; and a framework adjustment process, among other measures. The intended effect of this final rule was to implement permanent management measures for the Atlantic deep-sea red crab fishery and to prevent overfishing of the red crab resource. This rule was issued under the authority of the Magnuson-Stevens Act, 16 U.S.C. 1801.

11. Fisheries off West Coast States and in the Western Pacific; Pacific Coast Groundfish Fishery; Experimental Setnet Sablefish Landings To Qualify Limited Entry Sablefish-Endorsed Permits for Tier Assignment, RIN 0648-AP39 (67 FR 65902, Oct. 29, 2002). NMFS approved a regulatory amendment to revise sablefish tier qualifications for the limited entry, fixed gear, and primary sablefish fishery. The final rule was issued to amend tier qualifications to include sablefish landings taken under the provisions of an exempted fishing permit (EFP) from 1984-1985 with setnet gear north of 38°N. lat. Setnet EFP landings will be added to the current pot (trap) and longline landings to qualify a sablefish-endorsed permit for its tier assignment. This rule was intended to recognize historical sablefish landings made by current primary season participants. This rule was issued under the authority of the Magnuson-Stevens Act, 16 U.S.C. 1801.

12. Fisheries of the Exclusive Economic Zone Off Alaska; Revisions to Recordkeeping and Reporting Requirements, RIN 0648-AO20 (67 FR 4100, Jan. 28, 2002). NMFS issued a final rule to amend portions of the regulations implementing recordkeeping and reporting requirements for groundfish fisheries in the EEZ off Alaska. This action was necessary to refine or correct regulations for improved management, to remove obsolete text, and to clarify and simplify existing text. This action was intended to facilitate management of the fisheries, promote compliance with the regulations, and facilitate enforcement efforts. This rule was issued under the authority of the Northern Pacific Halibut Act (Halibut Act), 16 U.S.C. 773, and the Magnuson-Stevens Act, 16 U.S.C. 1801.

13. Fisheries of the Exclusive Economic Zone Off Alaska; Extend the Interim Groundfish Observer Program Through December 31, 2007, and Amend Regulations for the North Pacific Groundfish Observer Program, RIN 0648-AQ05 (67 FR 72595, Dec. 6, 2002). NMFS issued a final rule to extend the applicability date of the existing regulations for the interim North Pacific Groundfish Observer Program (Observer Program), which otherwise expired December 31, 2002, through 2007. This final rule also amended regulations governing the Observer Program. These changes clarified and improved observer certification and decertification processes; changed the duties and responsibilities of observers and observer providers to eliminate ambiguities and strengthen the regulations; and granted NMFS the authority to place NMFS staff and other qualified persons aboard vessels and at shoreside or floating stationary plants to increase NMFS' ability to interact effectively with observers, fishermen, and processing plant employees. These parts of the action were necessary to improve Observer Program support of the management objectives of the FMP for the Groundfish Fishery of the BSAI and the FMP for Groundfish of the GOA for those industry sectors already subject to such requirements. The intended effect was better managed fishery resources that result in the effective conservation of marine resources and habitat. This rule was issued under the authority of the Magnuson-Stevens Act, 16 U.S.C. 1801.

14. Taking of Marine Mammals Incidental to Commercial Fishing Operations; Atlantic Large Whale Take Reduction Plan Regulations, RIN 0648-AN88 (67 FR 1300, Jan. 10, 2002). NMFS issued this final rule to amend the regulations that implement the Atlantic Large Whale Take Reduction Plan to provide further protection for large whales, with an emphasis on protective measures to benefit North Atlantic right whales. This final rule expanded gear modifications required by a December 2000 interim final rule to the Mid-Atlantic and Offshore lobster waters and modified requirements for gillnet gear in the mid-Atlantic. This rule was issued under the authority of the Marine Mammal Protection Act (MMPA), 16 U.S.C. 1361.

15. Fisheries off West Coast States and in the Western Pacific; Precious Corals Fisheries; Harvest Quotas, Definitions, Size Limits, Gear Restrictions, and Bed Classification, RIN 0648-AK23 (67 FR 11941, Mar. 18, 2002). NMFS partially approved a regulatory amendment under the FMP for Precious Coral Fisheries of the Western Pacific Region submitted by the Western Pacific Fishery Management Council and issued a final rule that implemented gear restrictions, size limits, and definitions governing the harvest of precious coral resources managed under the FMP. (Precious coral management measures that were published in the proposed rule that applied only to the Northwestern Hawaiian Islands were not implemented by NMFS because they were determined to be inconsistent with certain provisions of Executive Order 13178 and Executive Order 13196, which together established the NWHI Coral Reef Ecosystem Reserve.) This rule was issued under the authority of the Magnuson-Stevens Act, 16 U.S.C. 1801.

16. Fisheries Off West Coast States and in the Western Pacific; Atlantic Highly Migratory Species; Fisheries of the Northeastern United States; Implementation of the Shark Finning Prohibition Act (Act), RIN 0648-AP21 (67 FR 6194, Feb. 11, 2002). NMFS published this final rule to implement the provisions of the Act. The final rule prohibited any person under U.S. jurisdiction from engaging in shark finning, possessing shark fins harvested on board a U.S. fishing vessel without corresponding shark carcasses, or landing shark fins harvested without corresponding carcasses. Finning is the practice of removing the fin or fins from a shark and discarding the remainder of the shark at sea. This final rule was issued in accordance with the requirement of the Act that the Secretary of Commerce issue regulations to implement the Act. The final rule did not alter or modify shark finning regulations already in place in the Atlantic for Federal permit holders. This rule was issued under the authority of the Magnuson-Stevens Act, 16 U.S.C. 1801.

17. Atlantic Highly Migratory Species; Pelagic Longline Fishery; Shark Gillnet Fishery; Sea Turtle and Whale Protection Measures, RIN 0648-AP49 (67 FR 45393, July 9, 2002). This final rule implemented measures required by the June 14, 2001, Biological Opinion on Atlantic highly migratory species (Atlantic HMS) fisheries. In the Atlantic HMS pelagic longline fishery, NMFS closed the northeast distant statistical reporting (NED) area, required the length of any gangion to be 10 percent longer than the length of any floatline if the total length of any gangion plus the total length of any floatline is less than 100 meters, and prohibited vessels from having hooks on board other than corrodible, non-stainless steel hooks. In the Atlantic HMS shark gillnet fishery, both the observer and vessel operator must look for whales, the vessel operator must contact NMFS if a listed whale is taken, and shark gillnet fishermen must conduct net checks every 0.5 to 2 hours to look for and remove any sea turtles or marine mammals from their gear. This final rule also required all Atlantic HMS bottom and pelagic longline vessels to post sea turtle handling and release guidelines in the wheelhouse. The intent of these actions was to reduce the incidental catch and post-release mortality of sea turtles and other protected species in Atlantic HMS fisheries. This rule was issued under the authority of the Magnuson-Stevens Act, 16 U.S.C. 1801.

18. Fisheries of the Exclusive Economic Zone Off Alaska; License Limitation Program for Groundfish of the Bering Sea and Aleutian Islands Area, RIN 0648-AM40 (67 FR 18129, Apr. 15, 2002). NMFS issued this final rule to implement Amendment 67 to the FMP for the Groundfish BSAI. This action was necessary to stabilize fully utilized Pacific cod resources harvested with hook-and-line and pot gears in the BSAI. This was accomplished by issuing endorsements for exclusive participation in the hook-and-line and pot gear BSAI Pacific cod fisheries by long-time participants. The final rule also added a new definition for directed fishing for CDQ fisheries and clarified discard provisions for the individual fishing quota and CDQ fisheries. The intended effect of this action is to conserve and manage the Pacific cod resources in the BSAI. This rule was issued under the authority of the Magnuson-Stevens Act, 16 U.S.C. 1801.

19. Fisheries of the Exclusive Economic Zone Off Alaska; Prohibition of Non-pelagic Trawl Gear in Cook Inlet in the Gulf of Alaska, RIN 0648-AP79 (67 FR 70859, Nov. 27, 2002). NMFS issued this final rule to implement Amendment 60 to the FMP for Groundfish of the GOA. This amendment prohibited the use of non-pelagic trawl gear in Cook Inlet. This action was necessary to address bycatch avoidance objectives in the Magnuson-Stevens Act, and was intended to further the goals and objectives of the FMP for Groundfish of the GOA. This rule was issued under the authority of the Magnuson-Stevens Act, 16 U.S.C. 1801.

20. Magnuson-Stevens Act Provisions; Fisheries off West Coast States and in the Western Pacific; Pacific Coast Groundfish Fishery; Annual Specifications and Management Measures, RIN 0648-AO69 (67 FR 10490, Mar. 7, 2002). NMFS issued this final rule to implement the 2002 fishery specifications and management measures for groundfish taken in the U.S. EEZ and State waters off the coasts of Washington, Oregon, and California. Management measures were intended to prevent overfishing; rebuild overfished species; minimize incidental catch and discard of overfished and depleted stocks; provide equitable harvest opportunity for both recreational and commercial sectors; and, within the commercial fisheries, achieve harvest guidelines and limited entry and open access allocations to the extent practicable. This rule was issued under the authority of the Magnuson-Stevens Act, 16 U.S.C. 1801.

21. Fisheries of the Exclusive Economic Zone Off Alaska; Individual Fishing Quota Program, RIN 0648-AK70 (67 FR 20915, Apr. 29, 2002). NMFS issued this final rule to implement Amendment 54 to the FMP for the Groundfish Fishery of the BSAI, Amendment 54 to the FMP for Groundfish of the GOA (Amendments 54/54), and an amendment to the Pacific halibut commercial fishery regulations for waters in and off Alaska. These amendments made three changes in the Individual Fishing Quota (IFQ) Program to: (1) Allow a quota share (QS) holder's indirect ownership or affiliation to a vessel, through corporate or other collective ties, to substitute for vessel ownership in the QS holder's own name for purposes of hiring a skipper to fish the QS holder's IFQ; (2) revise the definition of “a change in the corporation or partnership” to include language that explicitly specifies the point at which estates holding initial allocations of QS must transfer the QS to a qualified individual; and (3) revise sablefish use limits to be expressed in QS units rather than as percentages of the QS pool. This action was intended to improve the effectiveness of the IFQ Program. This action was issued under the authority of the Magnuson-Stevens Act, 16 U.S.C. 1801, and the Halibut Act, 16 U.S.C. 773.

22. Sea Turtle Conservation Measures for the Pound Net Fishery in Virginia Waters, RIN 0648-AP81 (67 FR 41196, June 17, 2002). NMFS prohibited the use of all pound net leaders measuring 12 inches (30.5 cm) and greater stretched mesh and all pound net leaders with stringers in the Virginia waters of the mainstem Chesapeake Bay effective immediately through June 30 and then from May 8 to June 30 each year. The affected area includes all Chesapeake Bay waters between the Maryland and Virginia State line (approximately 38°N. lat.) and the COLREGS line at the mouth of the Chesapeake Bay, and the waters of the James River, York River, and Rappahannock River downstream of the first bridge in each tributary. NMFS also imposed year round reporting and, when requested, monitoring requirements for the Virginia pound net fishery. This action was necessary to conserve sea turtles listed as threatened or endangered and to enable the agency to gather further information about sea turtle interactions in the pound net fishery. This rule was issued under the authority of the ESA, 16 U.S.C. 1531.

23. Endangered and Threatened Species; Take of Four Threatened Evolutionarily Significant Units of West Coast Salmon; 4(d) Rule, RIN 0648-AP17 (67 FR 1116, Jan. 10, 2002). Under the ESA, the Secretary of Commerce issues regulations as necessary and advisable for the conservation of species listed as “threatened.” This rule was issued to conserve four salmonid “evolutionarily significant units” or ESUs in California: California Central Valley Chinook, California Coastal Chinook, Central California Coast Coho and Northern California steelhead. The rule prohibited “take” of these four ESUs, subject to a number of exceptions. This rule was issued under the authority of the ESA, 16 U.S.C. 1531.

24. Atlantic Large Whale 2002 Seasonal Area Management (SAM) Program, RIN 0648-AP68 (67 FR 1142, Jan. 9 2002). NMFS issued this interim final rule to amend the regulations that implement the Atlantic Large Whale Take Reduction Plan to provide further protection for large whales, with an emphasis on North Atlantic right whales, through a Seasonal Area Management (SAM) program. The SAM program defines two areas based on the annual predictable presence of North Atlantic right whales in which gear restrictions for lobster trap and anchored gillnet gear are required. This action was necessary due to the critical status of the North Atlantic right whale population. The intent of the action was to reduce interactions between North Atlantic right whales and fishing gear and to reduce serious injury and mortality of North Atlantic right whales due to entanglement in fishing gear. This rule was issued under the authority of the MMPA, 16 U.S.C. 1361.

25. Regulations Governing the Approach to Humpback Whales in Alaska, RIN 0648-AN29 (66 FR 29502, May 31, 2001). This rule established measures to protect humpback whales in waters within 200 nautical miles of Alaska. Under these regulations it is unlawful for a person subject to the jurisdiction of the United States to approach, by any means, with some exceptions, within 100 yards of a humpback whale. The primary objective of limiting approaches around humpback whales was to minimize disturbance that could adversely affect the individual animal and to manage the threat to these animals caused by whale watching activities. The humpback whale is listed as endangered under the ESA. This rule was issued under the authority of the ESA, 16 U.S.C. 1531, and the MMPA, 16 U.S.C. 1361.

26. Fisheries of the Exclusive Economic Zone Off Alaska; Improved Individual Fishing Quota Program, RIN 0648-AK50 (66 FR 27908, May 14, 2001). This rule amended regulations implementing the IFQ Program for the Pacific halibut and sablefish fixed gear fisheries in and off Alaska. NMFS identified parts of the program that needed further refinement or correction for effective management of the affected fixed gear fisheries. This action effected those refinements and was necessary to further the objectives of the Magnuson-Stevens Act with respect to the IFQ fisheries. This rule was issued under the authority of the Halibut Act, 16 U.S.C. 773, and the Magnuson-Stevens Act, 16 U.S.C. 1801.

27. Fisheries of the Exclusive Economic Zone off Alaska; Western Alaska Community Development Quota Program, RIN 0648-AM72 (66 FR 13672, Mar. 7, 2001). This final rule implemented Amendment 66 to the FMP for the Groundfish Fishery of the BSAI. Amendment 66 removed the allocation of squid to the Western Alaska CDQ Program to prevent the catch of squid from limiting the catch of pollock CDQ. The regulatory amendment defining directed fishing for pollock CDQ implemented the intent of the AFA that only pollock caught while directed fishing for pollock CDQ accrue against the pollock CDQ allocation. This rule was issued under the authority of the Magnuson-Stevens Act, 16 U.S.C. 1801.

28. Fisheries of the Exclusive Economic Zone off Alaska; Revisions to Definition of Length Overall of a Vessel, RIN 0648-AN23 (66 FR 47416, Sept. 12, 2001). This final rule clarified the definition of length overall (LOA) of a vessel for the purposes of the regulations governing the groundfish fisheries in the EEZ off Alaska. The action was intended to prevent any misunderstanding or equivocation by vessel owners in determining a vessel's LOA, and to further the goals and objectives of the FMP for Groundfish of the GOA and the FMP for the Groundfish Fishery of the BSAI. This rule was issued under the authority of the Magnuson-Stevens Act, 16 U.S.C. 1801.

29. Fisheries of the Exclusive Economic Zone off Alaska; License Limitation Program, RIN 0648-AL95 (66 FR 48813, Sept. 24, 2001). This final rule implemented Amendment 60 to the FMP for the Groundfish Fishery of the BSAI, Amendment 58 to the FMP for Groundfish of the GOA, and Amendment 10 to the FMP for the Commercial King and Tanner Crab Fisheries in the BSAI. This rule was necessary to implement changes to the License Limitation Program made by these amendments and was intended to further the objectives of the Magnuson-Stevens Act and the three FMPs. This rule was issued under the authority of the Magnuson-Stevens Act, 16 U.S.C. 1801.

30. Atlantic Coastal Fisheries Cooperative Management Act Provisions; Horseshoe Crab Fishery; Closed Area, RIN 0648-AO02 (66 FR 8906, Feb. 5, 2001). NMFS issued this final rule to prohibit fishing for horseshoe crabs and limit possession of them in an area in the EEZ encompassing a 30-nautical mile radius (in a shape roughly equivalent to a rectangle) seaward from the midpoint of the territorial sea line at the mouth of Delaware Bay. The intent of the final rule was to provide protection for the Atlantic coast stock of horseshoe crab and to promote the effectiveness of the Atlantic States Marine Fisheries Commission's Interstate FMP for horseshoe crab. This rule was issued under the authority of the Atlantic Coastal Fisheries Cooperative Management Act, 16 U.S.C. 5101.

31. Fisheries of the Northeastern United States, Fishery Management Plan for Tilefish, RIN 0648-AF87 (66 FR 49136, Sept. 26, 2001). This final rule was issued to implement the FMP for Tilefish. Specifically, it was designed to eliminate overfishing, as defined in that FMP, and to rebuild the tilefish stock in the northwest Atlantic Ocean by implementing: a stock rebuilding strategy; a limited entry program; a tiered commercial quota; permit and reporting requirements for commercial vessels, operators, and dealers; a prohibition on the use of gear other than longline gear by limited-access tilefish vessels; and an annual specification and framework adjustment process. This rule was issued under the authority of the Magnuson-Stevens Act, 16 U.S.C. 1801.

32. Fisheries off West Coast States and in the Western Pacific; Pacific Coast Groundfish Fishery; Groundfish Observer Program, RIN 0648-AN27 (66 FR 20609, April 24, 2001). NMFS issued this final rule to amend the regulations implementing the Pacific Coast Groundfish FMP to provide for an at-sea observation program on all limited entry and open access catcher vessels. It required vessels in the groundfish fishery to carry observers when notified by NMFS or its designated agent; established notification requirements for vessels that may be required to carry observers; and established responsibilities and defined prohibited actions for vessels that are required to carry observers. The at-sea observation program was intended to improve estimates of total catch and fishing mortality. This rule was issued under the authority of the Magnuson-Stevens Act, 16 U.S.C. 1801.

33. Fisheries off West Coast States and in the Western Pacific; West Coast Salmon Fisheries; Amendment 14, RIN 0648-AL51 (66 FR 29238, May 30, 2001). NMFS issued this final rule to implement portions of Amendment 14 to the FMP for Commercial and Recreational Salmon Fisheries off the Coasts of Washington, Oregon, and California. The final rule made minor changes to language regarding spawning escapement and management goals; implemented a new recreational allocation to the Port of La Push and adjusted the Neah Bay allocation accordingly; added preseason flexibility for recreational port allocations north of Cape Falcon; and implemented preseason flexibility in setting recreational port allocations or recreational and commercial allocations north of Cape Falcon to take advantage of selective fishing opportunities for marked hatchery fish. The intended effect of the final rule was to employ management measures that minimize impacts to species, stocks, or size/age classes of concern, while maximizing access to harvestable fish. This rule was issued under the authority of the Magnuson-Stevens Act, 16 U.S.C. 1801.

34. Fisheries off West Coast States and in the Western Pacific; Pacific Coast Groundfish Fishery; Amendment 13, RIN 0648-AO41 (66 FR 29729, June 1, 2001). NMFS issued this final rule to implement Amendment 13 to the Pacific Coast Groundfish FMP. It established an increased utilization program for catcher/processor and mother ships in the at-sea whiting fisheries which carry multiple observers for at least 90 percent of the fishing days during a cumulative trip limit period, by revising the regulatory provisions for the routine management measures process, and by removing regulatory references to limited entry permit endorsements other than the “A” endorsement. This rule was issued under the authority of the Magnuson-Stevens Act, 16 U.S.C. 1801.

35. Fisheries off West Coast States and in the Western Pacific; Pacific Coast Groundfish Fishery; Amendment 14, RIN 0648-AO97 (66 FR 41152, Aug. 7, 2001). This rule implemented Amendment 14 to the Pacific Coast Groundfish FMP, which created a permit stacking program for limited entry permits with sablefish endorsements. The program was intended to lengthen the duration of the limited entry, fixed gear primary sablefish fishery; increase safety in that fishery; provide flexibility to participants; and reduce capacity in the limited entry fixed gear fleet. This rule was issued under the authority of the Magnuson-Stevens Act, 16 U.S.C. 1801.

36. International Fisheries Regulations; Pacific Tuna Fisheries, RIN 0648-AO42 (66 FR 49317, Sept. 27, 2001). This rule was issued to implement fishery conservation and management measures for the U.S. purse seine fishery in the eastern Pacific Ocean (EPO) to reduce bycatch of juvenile tuna, non-target fish species, and non-fish species. These measures were recommended by the Inter-American Tropical Tuna Commission (IATTC) and approved by the U.S. Department of State, in accordance with the Tuna Conventions Act of 1950. In addition, this rule established reporting requirements for U.S. vessels fishing for tuna in the EPO in order to gather information that NMFS could provide to the IATTC for a regional vessel register. The vessel register was created to promote consistent compliance across all IATTC member nations by ensuring constant attention to fleets active in the area and aiding in identification of vessels engaged in illegal, unreported or undocumented fishing in the EPO. This rule was issued under the authority of the Tuna Conventions Act, 16 U.S.C. 1801.

Dated: November 8, 2010.
Brian Parker,
Acting Director, Office of Sustainable Fisheries, National Marine Fisheries Service.

[FR Doc. 2010-28700 Filed 11-12-10; 8:45 am]

BILLING CODE 3510-22-P